DEPARTMENT OF ENERGY

Federal Energy Regulatory Commission

Notice of Application Accepted for Filing, Soliciting Motions to Intervene and Protests, and Establishing Procedural Milestones for Relicensing

August 2, 2002.

Take notice that the following hydroelectric application has been filed with the Commission and is available for public inspection.

a. Type of Application: New Major License.

b. Project No.: 2984-042.

c. Date Filed: March 29, 2002.

d. Applicant: S.D. Warren Company.

e. Name of Project: Eel Weir Hydroelectric Project.

f. Location: The existing project is located on the Presumpscot River at the outlet of Sebago Lake, in Cumberland County, Maine. The project does not affect federal lands.

g. Filed Pursuant to: Federal Power Act 16 U.S.C. §§ 791(a)-825(r)

h. Applicant Contact: Thomas P. Howard, S.D. Warren Company, 89 Cumberland Street, P.O. Box 5000, Westbrook, ME 04098-1597; Telephone (207) 856-4286

i. FERC Contact: Allan Creamer, (202) 502-8365 or allan.creamer@ferc.gov.

j. Deadline for Filing Motions to Intervene and Protests: 60 days from the issuance date of this notice.

All documents (original and eight copies) should be filed with: Magalie R. Salas, Secretary, Federal Energy Regulatory Commission, 888 First Street, NE., Washington, DC 20426. The Commission strongly encourages electronic filings.

The Commission's rules of practice require all interveners filing documents with the Commission to serve a copy of that document on each person on the official service list for the project. Further, if an intervener files comments or documents with the Commission relating to the merits of an issue that may affect the responsibilities of a particular resource agency, they must also serve a copy of the document on that resource agency.

Motions to intervene and protests may be filed electronically via the Internet in lieu of paper. See 18 CFR 385.2001(a)(1)(iii) and the instructions on the Commission's website (http://www.ferc.gov) under the “e-Filing” link. The Commission strongly encourages electronic filing.

k. Status: This application has been accepted for filing, but is not ready for environmental analysis at this time.

l. Description of Project: The existing Eel Weir Project operates in a store-and-release mode. The project consists of the following features: (1) A 115-foot-long, 23-foot-high stone masonry spillway dam; (2) a 150-foot-long, 10-foot-high stone and earth-fill east abutment section; (3) a 90-foot-long, 5-foot-high stone and earth-fill west abutment section; (4) five 6.5-foot-high by 4.75-foot-wide discharge gates; (5) four 8.8-foot-high by 7-foot-wide canal intake gates; (6) a 12-mile-long, 28,771-acre impoundment, Sebago Lake, at elevation 266.65 msl; (7) a 6,700-mile-long bypassed reach; (8) a 90-foot-long fish screen, located upstream of the canal gates; (9) a 4,826-foot-long, 15-foot-deep earthen power canal; (10) a 90-foot-long timber-sheathed canal overflow weir; (11) a powerhouse containing three Hercules turbines and generating units, having an installed capacity of 1,800 kilowatts; (12) a 3.5-mile-long, 11-kilovolt transmission line; and (13) appurtenant facilities.

The average annual generation is estimated to be about 12,300 megawatt-hours. All power generated by the project is utilized by the applicant's paper mill in Westbrook, Maine.

m. Location of the Application: A copy of application is on file with the Commission and is available for public inspection. The application may be viewed on the web at http://www.ferc.gov using the “FERRIS” link. Enter the docket number, excluding the last three digits in the docket number field, to access the document. For assistance, call (202) 502-8222. A copy is also available for inspection and reproduction at the address in item h above.

n. Anyone may submit a motion to intervene or protest in accordance with the requirements of rules of practice and procedure, 18 CFR 385.210, 385.211, and 385.214. In determining the appropriate action to take, the Commission will consider all protests filed, but only those who file a motion to intervene in accordance with the Commission's Rules may become a party to the proceeding. Any motions to intervene or protests must be received on or before the specified deadline date for the particular application.

All filings must (1) bear in all capital letters the title “MOTION TO INTERVENE” or “PROTEST;” (2) set forth in the heading the name of the applicant and the project number of the application to which the filing responds; (3) furnish the name, address, and telephone number of the person intervening or protesting; and (4) otherwise comply with the requirements of 18 CFR 385.2001 through 385.2005. Agencies may obtain copies of the application directly from the applicant. A copy of any motion to intervene or protest must be served upon each representative of the applicant specified in the particular application.

o. Procedural Schedule and Final Amendments: The application will be processed according to the following Hydro Licensing Schedule. Revisions to the schedule will be made if the Commission determines it necessary to do so:

Action | Tentative date
Request Additional Information | August/September 2002.
Issue Scoping Document 1 for Comment | October 2002.
Hold Scoping Meeting(s) | November 2002.
Request Additional Information (if necessary) | January 2003.
Issue Scoping Document 2 | January 2003.
Notice of Application Ready for Environmental Analysis | February 2003.
Notice of availability of the draft NEPA document | August 2003.
Initiate 10(j) process | October 2003.
Notice of availability of the final NEPA document | December 2004.
Ready for Commission decision on the application | March 2004.

Final amendments to the application must be filed with the Commission no later than 30 days from the issuance date of the notice of ready for environmental analysis.

Linwood A. Watson, Jr.,
Deputy Secretary.

[FR Doc. 02-20047 Filed 8-7-02; 8:45 am]

BILLING CODE 6717-01-P